DEPARTMENT OF TRANSPORTATION

Federal Transit Administration

Bus and Bus Facilities Discretionary Program Funds

AGENCY: Federal Transit Administration (FTA), DOT.

ACTION: Bus Livability and State of Good Repair Initiatives: Announcement of Project Selections.

SUMMARY: The U.S. Department of Transportation's (DOT) Federal Transit Administration (FTA) announces the selection of capital projects for the State of Good Repair (SGR) and Bus Livability (BLIV) initiatives funded under the Section 5309 Bus and Bus Facilities program, which is authorized by 49 U.S.C. 5309(b), as amended by Section 3011 of the Safe, Affordable, Flexible, Efficient Transportation Equity Act: A Legacy for Users (SAFETEA-LU), Public Law 109-59, August 10, 2005.

On February 7, 2012, FTA published a Notice of Funding Availability (NOFA) for its State of Good Repair and Bus Livability Initiatives (77 FR 6178). The NOFA explained the requirements and procedures for eligible applicants to apply for the funds made available by the Surface and Air Transportation Programs Extension Act of 2011. In sum, the FY 2012 State of Good Repair Initiative made available approximately $650 million of Section 5309 Bus and Bus Facilities Program funds. The NOFA indicated FTA's intent to award the funds for capital investments aimed at replacing or rehabilitating transit infrastructure for buses, bus facilities, bus-related equipment, and transit asset management systems. The FY 2012 Bus Livability Initiative made available approximately $125 million of Section 5309 Bus and Bus Facilities Program funds. As outlined in the NOFA, the Section 5309 funds would be awarded for capital investments for buses, bus facilities, and bus related equipment.

FOR FURTHER INFORMATION CONTACT: Successful applicants should contact the appropriate FTA Regional office for specific information regarding applying for the funds. A list of Regional offices can be found at www.fta.dot.gov. Unsuccessful applicants may contact FTA to arrange a proposal debriefing within 30 days of this announcement; SGR applicants may contact Sam Snead, Office of Program Management at (202) 366-1089, email: samuel.snead@dot.gov; BLIV applicants may contact Bryce McNitt, Office of Budget and Policy at (202) 366-2618, email: bryce.mcnitt@dot.gov. For general program information on the Bus and Bus Facilities Program, contact Samuel Snead, A TDD is available at 1-800-877-8339 (TDD/FIRS).

SUPPLEMENTARY INFORMATION: State of Good Repair Program: In response to its NOFA, FTA received 568 eligible proposals requesting $2.99 billion in federal funds, indicating significant demand for funds. The proposals came from 48 states plus the District of Columbia, Puerto Rico, and the Virgin Islands. Project proposals were evaluated based on the criteria detailed in the February 2, 2012 NOFA. FTA is funding 194 projects for a total of $651.7 million, including 13 asset management projects. The selected projects shown in Table 1 will provide funds to help maintain the nation's public transportation bus fleet, infrastructure, and equipment in a state of good repair. Funds must be used consistent with the competitive proposal and for the eligible purposes defined under 49 U.S.C. 5309(b)(3).

Bus Livability Program: In response to the NOFA, FTA received 266 eligible proposals requesting $1.03 billion in federal funds, indicating significant demand for funds. The proposals came from 47 states plus the District of Columbia. Project proposals were evaluated based on the criteria detailed in the February 2, 2012 NOFA. FTA is funding 61 projects for a total of approximately $135.6 million. The selected projects shown in Table 2 will provide mobility choices, improve economic competitiveness, support existing communities, create partnerships and enhance the value of communities and neighborhoods. Funds must be used consistent with the competitive proposal and for the eligible purposes defined under 49 U.S.C. 5309(b)(3). In selecting projects for funding using Bus Program funds, FTA ensured that at least 5.5 percent of the FY 2012 Section 5309 funds, or $6.9 million, is being allocated to projects that are not in urbanized areas.

Project Implementation: Grantees selected for competitive discretionary funding should work with their FTA regional office to finalize the grant application in FTA's Transportation Electronic Award Management system (TEAM) so that funds can be obligated expeditiously. Grant applications must only include eligible activities applied for in the original project application. In cases where the allocation amount is less than the proposer's requested amount, grantees should work with the regional office to reduce scope or scale the project such that a complete phase or project is accomplished. A discretionary project identification number has been assigned to each project for tracking purposes and must be used in the TEAM application. Selected projects have pre-award authority no earlier than July 23, 2012. Pre-award authority is also contingent upon other requirements, such as planning and environmental, having been met.

For more about FTA's policy on pre-award authority, please see the FTA Fiscal Year 2012 Apportionments, Allocations, and Program notice found in 77 FR 1785 (January 11, 2012). Additionally, for the Bus Livability projects, although several projects contained related housing or livable communities' initiatives, FTA funds may only be used for eligible purposes defined under 49 U.S.C. 5309(b)(3) and described in FTA C. 9030.1D. For any Bus Livability projects that will be implemented as a joint-development project, please also refer to the agency's joint-development guidance found in 72 FR 5788 (February 7, 2007) for more information.

Post-award reporting requirements include submission of the Financial Federal Report and Milestone reports in TEAM as appropriate (see FTA.C.5010.1D). The grantee must comply with all applicable Federal statutes, regulations, executive orders, FTA circulars, and other Federal administrative requirements in carrying out the project supported by the FTA grant. FTA emphasizes that grantees must follow all third-party procurement guidance, as described in FTA.C.4220.1F. Funds allocated in this announcement must be obligated in a grant by September 30, 2014.

Issued in Washington, DC, this August 3, 2012.
Peter Rogoff,
Administrator.

BILLING CODE P

[FR Doc. 2012-19438 Filed 8-13-12; 8:45 am]

BILLING CODE C